SMALL BUSINESS ADMINISTRATION

[Disaster Declaration #10746]

Hawaii Disaster #HI-00007

AGENCY: U.S. Small Business Administration.

ACTION: Notice.

SUMMARY: This is a Notice of the Presidential declaration of a major disaster for Public Assistance Only for the State of Hawaii (FEMA-1664-DR), dated 10/23/2006.

Incident: Kiholo Bay Earthquake.

Incident Period: 10/15/2006 and continuing.

Effective Date: 10/23/2006.

Physical Loan Application Deadline Date: 12/22/2006.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 10/23/2006, Private Non-Profit organizations that provide essential services of a governmental nature may file disaster loan applications at the address listed above or other locally announced locations.

The following areas have been determined to be adversely affected by the disaster:

Primary Counties: Hawaii; City and County of Honolulu; Maui.

The Interest Rates are:

Other (Including Non-Profit Organizations) With Credit Available Elsewhere 5.000.

Businesses And Non-Profit Organizations Without Credit Available Elsewhere 4.000.

The number assigned to this disaster for physical damage is 10746.

(Catalog of Federal Domestic Assistance Number 59008)

Herbert L. Mitchell,
Associate Administrator, for Disaster Assistance.

[FR Doc. E6-21027 Filed 12-11-06; 8:45 am]

BILLING CODE 8025-01-P